DEPARTMENT OF THE INTERIOR

Fish and Wildlife Service

[FWS-HQ-IA-2014-N061; FXIA16710900000-145-FF09A30000]

Endangered Species; Marine Mammals; Issuance of Permits

AGENCY: Fish and Wildlife Service, Interior.

ACTION: Notice of issuance of permits.

SUMMARY: We, the U.S. Fish and Wildlife Service (Service), have issued the following permits to conduct certain activities with endangered species, marine mammals, or both. We issue these permits under the Endangered Species Act (ESA) and Marine Mammal Protection Act (MMPA).

ADDRESSES: Shauntá Nichols, Division of Management Authority, U.S. Fish and Wildlife Service, 4401 North Fairfax Drive, Room 212, Arlington, VA 22203; fax (703) 358-2280; or email DMAFR@fws.gov.

FOR FURTHER INFORMATION CONTACT: Shauntá Nichols, (703) 358-2104 (telephone); (703) 358-2280 (fax); DMAFR@fws.gov (email).

SUPPLEMENTARY INFORMATION: On the dates below, as authorized by the provisions of the ESA (16 U.S.C. 1531 et seq.), as amended, and/or the MMPA, as amended (16 U.S.C. 1361 et seq.), we issued requested permits subject to certain conditions set forth therein. For each permit for an endangered species, we found that (1) The application was filed in good faith, (2) The granted permit would not operate to the disadvantage of the endangered species, and (3) The granted permit would be consistent with the purposes and policy set forth in section 2 of the ESA.

Endangered Species
Permit No. | Applicant | Receipt of application Federal Register notice | Permit issuance date
06190B | University of Tennessee, College of Veterinary Medicine | 78 FR 44961; July 25, 2013 | November 18, 2013.
16871B | Michael Stec | 78 FR 62647; October 22, 2013 | December 18, 2013.
15467B | Wildlife Conservation Society | 78 FR 65352; October 31, 2013 | January 14, 2014.
19040B | Joseph Nabers | 78 FR 65352; October 31, 2013 | February 18, 2014.
21469B | University of Illinois, Veterinary Diagnostic Laboratory | 78 FR 76171; December 16, 2013 | January 16, 2014.
22136B | Wallace Phillips | 78 FR 76171; December 16, 2013 | January, 24, 2014.
22134B | Lynn Stinson | 78 FR 76171; December 16, 2013 | February 11, 2014.
23351B | William Jensen | 79 FR 835; January 7, 2014 | February 18, 2014.
25261B | James DeWoody | 79 FR 4171; January 24, 2014 | March 5, 2014.
26184B | Ramon Gonzalez | 79 FR 8203; February 11, 2014 | March 18, 2014.
23339B | University of California at Berkeley | 79 FR 8203; February 11, 2014 | March 24, 2014.
184718 | Delaware Museum of Natural History | 79 FR 8203; February 11, 2014 | March 25, 2014.
20341B | Gregory Pipkin | 79 FR 10547; February 25, 2014 | April 2, 2014.
11219B | Seward Association for the Advancement of Marine Science, Alaska SeaLife Center | 78 FR 67389; November 12, 2013 | April 2, 2014.

Availability of Documents

Documents and other information submitted with these applications are available for review, subject to the requirements of the Privacy Act and Freedom of Information Act, by any party who submits a written request for a copy of such documents to: Division of Management Authority, U.S. Fish and Wildlife Service, 4401 North Fairfax Drive, Room 212, Arlington, VA 22203; fax (703) 358-2280.

Shauntá Nichols,
Legal Instrument Examiner, Branch of Permits, Division of Management Authority.

[FR Doc. 2014-08297 Filed 4-11-14; 8:45 am]

BILLING CODE 4310-55-P